ENVIRONMENTAL PROTECTION AGENCY

[FRL-6949-4]

Agency Information Collection Activities: Submission for OMB Review; Comment Request, the New Source Performance Standards (NSPS) for Volatile Organic Liquid Storage Vessels

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: The New Source Performance Standards (NSPS) for Volatile Organic Liquid Storage Vessels at 40 CFR part 60, Subpart Kb, OMB Control Number 2060-0074, expiration date February 28, 2001. The ICR describes the nature of the information collection and its expected burden and cost; where appropriate, it includes the actual data collection instrument.

DATES: Comments must be submitted on or before April 6, 2001.

ADDRESSES: Send comments, referencing EPA ICR No. 1132.06 and OMB Control No. 2060-0074, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No.1132.06. For technical questions about the ICR contact Everett Bishop at 202-564-7032.

SUPPLEMENTARY INFORMATION: Title: The New Source Performance Standards (NSPS) for Volatile Organic Liquid Storage Vessels at 40 CFR part 60, Subpart Kb (OMB Control Number 2060-0074, EPA ICR Number 1132.06), expiration date February 28, 2001. This is a request for an extension of a currently approved collection.

Abstract: The notification of construction, reconstruction or modification indicates when a storage vessel becomes subject to the standards. The information generated by the inspecting, recordkeeping and reporting requirements is used by the Agency to ensure that the storage vessel affected by the NSPS continues to operate the control equipment in a manner that helps achieve compliance with the NSPS.

Information is recorded in sufficient detail to enable owners or operators to demonstrate the means of complying with the applicable standards. Under this standard, the data collected by the affected owner/operator is retained at the facility for a minimum of two years and made available to the Administrator either on request or by inspection.

The information generated by the recordkeeping and reporting requirements are used by the Agency to ensure that facilities affected by the NSPS continue to operate in compliance with the NSPS.

The information collected from the recordkeeping and reporting requirements is also used for targeting inspections, and is of sufficient quality to be used as evidence in court. Collection of this information is authorized at 40 CFR 60.7 and 60.110b. Any information submitted to the Agency, for which a claim of confidentiality is made, will be safeguarded according to the Agency policies set forth in Title 40, chapter 1, part 2, subpart B—Confidentiality of Business Information (see 40 CFR part 2: 41 FR 36902, September 1, 1976; amended by 43 FR 40000, September 8, 1978; 43 FR 42251, September 20, 1978; 44 FR 17674, March 23, 1979). An agency may not conduct or sponsor, and a person is not required to respond to, a collection of information unless it displays a currently valid OMB control number. The OMB control numbers for EPA's regulations are listed in 40 CFR part 9 and 48 CFR chapter 15. The Federal Register Notice required under 5 CFR 1320.8(d), soliciting comments on this collection of information was published on December 22, 2000 (65 FR 80854). No comments were received.

Burden Statement: The annual public reporting and recordkeeping burden for this collection of information is estimated to average 1 hour per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners of storage vessels for petroleum liquids and synthetic organic chemicals.

Estimated Number of Respondents: 580.

Frequency of Response: Semi-annually, Annually, Initial Reports.

Estimated Total Annual Hour Burden: 74,606 hours.

Estimated Total Annualized Capital, O&M Cost Burden: $4,714,690.

Send comments on the Agency's need for this information, the accuracy of the provided burden estimates, and any suggested methods for minimizing respondent burden, including through the use of automated collection techniques to the following addresses. Please refer to EPA ICR No. 1132.06 and OMB Control No. 2060-0074 in any correspondence.

Dated: February 22, 2001.
Oscar Morales,
Director, Collection Strategies Division.

[FR Doc. 01-5567 Filed 3-6-01; 8:45 am]

BILLING CODE 6560-50-P